NATIONAL FOUNDATION ON THE ARTS AND THE HUMANITIES

National Endowment for the Arts; Combined Arts Advisory Panel

Pursuant to section 10(a)(2) of the Federal Advisory Committee Act (Pub. L. 92-463), as amended, notice is hereby given that six meetings of the Combined Arts Advisory Panel to the National Council on the Arts will be held at the Nancy Hanks Center, 1100 Pennsylvania Avenue, NW., Washington, DC 20506 as follows:

Music: July 19-22, 2004, Room 714 (Access to Artistic Excellence category, Panel A). A portion of this meeting, from 3:30 p.m. to 4:30 p.m. on July 22nd, will be open to the public for policy discussion. The remaining portions of this meeting, from 9 a.m. to 6 p.m. on July 19th, from 8:30 a.m. to 5:30 p.m. on July 20th and July 21st, and from 8:30 a.m. to 3:30 p.m. and 4:30 p.m. to 5 p.m. on July 22nd, will be closed.

Theater/Musical Theater: July 19-23, 2004, Room 730 (Access to Artistic Excellence category, Panel B). A portion of this meeting, from 3 p.m. to 4:30 p.m. on July 22nd, will be open to the public for policy discussion. The remaining portions of this meeting, from 9:30 a.m. to 6:30 p.m. on July 19th-21st, from 9:30 a.m. to 3 p.m. and 4:30 p.m. to 6:30 p.m. on July 22nd, and from 9:30 a.m. to 5 p.m. on July 23rd, will be closed.

Museums: July 20-23, 2004, Room 716 (Access to Artistic Excellence category). This meeting, from 9 a.m. to 5:30 p.m. on July 20th—22nd and from 9 a.m. to 2:30 p.m. on July 23rd, will be closed.

Multidisciplinary: July 26-29, 2004, Room 716 (Access to Artistic Excellence category). A portion of this meeting, from 10 a.m. to 11:15 a.m. on July 29th, will be open to the public for policy discussion. The remaining portions of this meeting, from 9 a.m. to 6 p.m. on July 26th, from 9 a.m. to 5:30 p.m. on July 27th and 28th, and from 9 a.m. to 10 a.m. and 11:15 a.m. to 12:30 p.m. on July 29th, will be closed.

Presenting: July 29-30, 2004, Room 716 (Access to Artistic Excellence category). This meeting, from 1:30 p.m. to 5:30 p.m. on July 29th and from 9 a.m. to 12:30 p.m. on July 30th, will be closed.

Dance: August 9-13, 2004, Room 716 (Access to Artistic Excellence category). This meeting, from 9 a.m. to 6 p.m. on August 9th-12th and from 9 a.m. to 3 p.m. on August 13th, will be closed.

The closed portions of meetings are for the purpose of Panel review, discussion, evaluation, and recommendation on applications for financial assistance under the National Foundation on the Arts and the Humanities Act of 1965, as amended, including information given in confidence to the agency by grant applicants. In accordance with the determination of the Chairman of April 14, 2004, these sessions will be closed to the public pursuant to subsection (c) (6) of 5 U.S.C. 552b.

Any person may observe meetings, or portions thereof, of advisory panels that are open to the public, and if time allows, may be permitted to participate in the panel's discussions at the discretion of the panel chairman.

If you need special accommodations due to a disability, please contact the Office of AccessAbility, National Endowment for the Arts, 1100 Pennsylvania Avenue, NW., Washington, DC 20506, (202) 682-5532, TDY-TDD (202) 682-5496, at least seven (7) days prior to the meeting.

Further information with reference to these meetings can be obtained from Ms. Kathy Plowitz-Worden, Office of Guidelines & Panel Operations, National Endowment for the Arts, Washington, DC 20506, or call (202) 682-5691.

Dated: June 16, 2004.
Kathy Plowitz-Worden,
Panel Coordinator, Panel Operations, National Endowment for the Arts.

[FR Doc. 04-14186 Filed 6-22-04; 8:45 am]

BILLING CODE 7537-01-P